DEPARTMENT OF LABOR

Employment and Training Administration

[TA-W-63,691]

Newpage Corporation, Niagara Mill, Including On-Site Leased Workers From PSI, Naico, Gunville Trucking and Advanced Service Providers, Niagara, WI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 31, 2008, applicable to workers of NewPage Corporation, Niagara Mill, including on-site leased workers from PSI, Naico and Gunville Trucking, Niagara, Wisconsin. The notice was published in the Federal Register on August 12, 2008 (73 FR 46923).

At the request of the State agency, the Department reviewed the certification for workers of the subject firm. The workers are engaged in the production of coated mechanical printing paper.

New information shows that a leased worker from Advanced Service Providers was employed on-site at the Niagara, Wisconsin location of NewPage Corporation, Niagara Mill. The Department has determined that this worker was sufficiently under the control of NewPage Corporation, Niagara Mill to be considered a leased worker.

Based on these findings, the Department is amending this certification to include a leased worker from Advanced Service Providers working on-site at the Niagara, Wisconsin location of the subject firm.

The intent of the Department's certification is to include all workers employed at NewPage Corporation, Niagara Mill, Niagara, Wisconsin who were adversely affected by increased imports of coated mechanical printing paper.

The amended notice applicable to TA-W-63,691 is hereby issued as follows:

All workers of NewPage Corporation, Niagara Mill, including on-site leased workers from PSI, Naico, Gunville Trucking, and Advanced Service Providers, Niagara, Wisconsin, who became totally or partially separated from employment on or after July 11, 2007, through July 31, 2010, are eligible to apply for adjustment assistance under Section 223 of the Trade Act of 1974, and are also eligible to apply for alternative trade adjustment assistance under Section 246 of the Trade Act of 1974.

Signed at Washington, DC, this 20th day of August 2008.
Linda G. Poole,
Certifying Officer, Division of Trade Adjustment Assistance.

[FR Doc. E8-20045 Filed 8-28-08; 8:45 am]

BILLING CODE 4510-FN-P